DEPARTMENT OF THE INTERIOR

Fish and Wildlife Service

[FWS-R5-R-2016-N101; FXRS85510553RGO-XXX-FF05R04000]

Final Long Range Transportation Plan for U.S. Fish and Wildlife Service Lands in the Northeast Region

AGENCY: Fish and Wildlife Service, Interior.

ACTION: Notice of availability; final long range transportation plan.

SUMMARY: We, the U.S. Fish and Wildlife Service (Service), announce the availability of the final long range transportation plan (LRTP). The Final LRTP outlines a strategy for improving and maintaining transportation assets that provide access to Service-managed lands in the Northeast Region (Maine, New Hampshire, Vermont, Massachusetts, Rhode Island, Connecticut, New York, Pennsylvania, New Jersey, Delaware, Maryland, Virginia, and West Virginia) over the next 20 years.

ADDRESSES: You may view or obtain copies of the final plan by any of the following methods. You may also request a hard copy or a CD-ROM.

Agency Web site: Download a copy of the document at http://www.fws.gov/northeast/refuges/roads/pdf/northeast-region-long-range-transportation-plan.pdf.

Email: Send requests to carl_melberg@fws.gov, and include “Region 5 Final LRTP” in the subject line of your email.

U.S. Mail: Carl Melberg, Acting Regional Transportation Coordinator, Northeast Region, U.S. Fish and Wildlife Service, 300 Westgate Center Drive, Hadley, Massachusetts 01035.

Facsimile: Attention: Carl Melberg, 413-253-8468.

In-Person Viewing or Pickup: Call 413-253-8586 to make an appointment (necessary for view/pickup only) during regular business hours at Northeast Region, U.S. Fish and Wildlife Service, 300 Westgate Center Drive, Hadley, Massachusetts 01035.

FOR FURTHER INFORMATION CONTACT: Carl Melberg, Acting Regional Transportation Coordinator, 413-253-8586 (phone); carl_melberg@fws.gov (email).

SUPPLEMENTARY INFORMATION:

Introduction

With this notice, we make the Final LRTP for the Northeast Region of the Service available for public review. Notice of availability and request for comments on the Draft LRTP was published in the Federal Register (FR00002485) on March 7, 2016. Comments received were evaluated and incorporated, as applicable, into this Final LRTP. The Final LRTP outlines a strategy for improving and maintaining transportation assets that provide access to Service-managed lands in the Northeast Region in Maine, New Hampshire, Vermont, Massachusetts, Rhode Island, Connecticut, New York, Pennsylvania, New Jersey, Delaware, Maryland, Virginia, and West Virginia.

Background

This final report also includes changes made in reference to the Federal multi-year transportation funding legislation. The Fixing America's Surface Transportation Act (FAST ACT) was signed in December 2015, and replaces the 2012 Moving Ahead for Progress in the 21st Century Act (MAP-21). Both require all Federal land management agencies to conduct long range transportation planning in a manner that is consistent with metropolitan planning organization and State departments of transportation planning. This LRTP was initiated within the Service to achieve the following:

• Establish a structure for sound transportation planning and decision-making.

• Establish a vision, mission, goals, and objectives for transportation planning in the Service's Northeast Region.

• Implement coordinated and cooperative transportation partnerships in an effort to improve the Service's transportation infrastructure.

• Integrate transportation planning and funding for wildlife refuges and fish hatcheries into existing and future Service management plans and strategies e.g., comprehensive conservation plans and comprehensive hatchery management plans.

• Increase awareness of Alternative Transportation Systems and associated benefits.

• Develop best management practices for transportation improvements on Service lands.

• Serve as a pilot project for the implementation of a Regional-level transportation planning process within the Service.

LRTP Mission, Goals, and Objectives

Through a collaborative effort, the National Wildlife Refuge System (Refuge System) and the Fish and Aquatic Conservation programs, in cooperation with the Planning Group and the Division of Refuge Field Support within the Service's Northeast Region, have contributed to defining the mission, goals, and objectives presented in this document. The resulting mission, goals, and objectives are intended to provide a systematic approach to guide the process for evaluating and selecting transportation improvements for the Service lands in the Northeast Region. These guiding principles have shaped the development, conclusions, and recommendations of this LRTP.

Mission

To support the Service's mission by connecting people to fish, wildlife, and their habitats through strategic implementation of transportation programs.

Goals and Objectives

This long range transportation plan has six categories of goals: Coordinated Opportunities; Asset Management; Safety; Environmental; Access, Mobility, and Connectivity; and Visitor Experience. Under each goal, we present distinct objectives that move us to the goal.

1. Coordinated Opportunities: The program will seek joint transportation opportunities that support the Service mission, maximize the utility of Service resources, and provide mutual benefits to the Service and external partners.

Objectives:

• Identify and increase key internal and external partnerships at the national, regional, and unit levels.

• Maximize leveraged opportunities by identifying and pursuing funding for projects of mutual interest and benefit.

• Develop best practices for external engagement that illustrates success in forming and nurturing coalitions and partnerships that support the Service's mission.

• Coordinate within Service programs, including the Refuge System, Ecological Services, Migratory Birds, and Fish and Aquatic Conservation during the development of Regional long-range and project-level plans.

2. Asset Management: The program will operate and maintain a functional, financially sustainable and resilient transportation network to satisfy current and future land management needs in the face of a changing climate.

Objectives:

• Use asset management principles to maintain important infrastructure at an appropriate condition level.

• Prioritize work programs through the project selection process detailed in this plan or an adaptation thereof.

• Evaluate life cycle costs when considering new assets to determine long-term financial sustainability.

• Consider the impacts of climate change in the planning and management of transportation assets.

3. Safety: The program's network will provide a superior level of safety for all users and all modes of transportation to and within Service lands.

Objectives:

• Identify safety issue `hot-spots' within the Service's transportation system with the Safety Analysis Toolkit.

• Implement appropriate safety countermeasures to resolve safety issues and reduce the frequency and severity of crashes (also with the Safety Analysis Toolkit).

• Address wildlife-vehicle collisions with design solutions (Environmental Enhancements).

• Use cooperation and communication among the “4E's” of safety, including: Engineering, education, enforcement, and emergency medical services.

4. Environmental: Transportation infrastructure will be landscape appropriate and play a key role in the improvement of environmental conditions in and around Service lands.

Objectives:

• Follow the Roadway Design Guidelines for best practices in design, planning, management, maintenance, and construction of transportation assets.

• Reduce greenhouse gas emissions and air pollutants by increasing transportation options and use of alternative fuels.

• Protect wildlife corridors, reduce habitat fragmentation, and enhance terrestrial and aquatic organism passage on and adjacent to Service lands to conserve fish, wildlife, and plant populations.

5. Access, Mobility, and Connectivity: The program will ensure that units open to public visitation have adequate transportation options for all users including underserved, underrepresented, and mobility-limited populations.

Objectives:

• Offer a wide range of transportation modes and linkages for onsite and offsite access.

• Provide a clear way for finding information both on and off Service lands.

• Through the Urban Wildlife Conservation Program, integrate Service transportation facilities with local community transportation systems in a way that encourages local visitation and provides economic benefits to partner and gateway communities.

• Through coordinated planning, provide context-appropriate transportation facilities that address the specific needs of local visitor groups and respect the natural setting of the refuge or hatchery.

• Address congestion issues to and within Service units.

6. Visitor Experience: The program will enhance the visitation experience through improvement and investment in the transportation network.

Objectives:

• Integrate interpretation, education, and resource stewardship principles into the transportation experience.

• Evaluate the feasibility of alternative transportation systems at all stations and implement where appropriate.

• Encourage connections with existing and planned public and private transportation services.

• Design infrastructures in such a way that highlights the landscape and not the transportation facility.

Comments

We solicited comments on the Draft LRTP from March 7 to April 7, 2016 (FR00002485). During the comment period, we received two written responses. Comments received were evaluated and incorporated, as applicable, into this Final LRTP.

Changes to the Final LRTP

After considering the comments we received on the Draft LRTP, we have updated the report to highlight partnership opportunities at the Potomac River National Wildlife Refuge Complex. This final report also includes changes made in referencing the Federal multi-year transportation funding legislation. The FAST Act was signed in December 2015, and replaces the MAP-21.

Next Steps

We will document the Final LRTP, which will be published in the Federal Register.

Dated: August 9, 2016.
Deborah Rocque,
Acting Regional Director, Northeast Region.

[FR Doc. 2016-27442 Filed 11-14-16; 8:45 am]

BILLING CODE 4333-15-P